DEPARTMENT OF COMMERCE

National Oceanic and Atmospheric Administration

[I.D. 061203I]

Small Takes of Marine Mammals Incidental to Specified Activities; Movement of Steel Drilling Caisson through the Beaufort Sea from Cross Island, McCovey Prospect to Herschel Island, Yukon Territory

AGENCY: National Marine Fisheries Service (NMFS), National Oceanic and Atmospheric Administration (NOAA), Commerce.

ACTION: Notice of issuance of incidental harassment authorization.

SUMMARY: In accordance with provisions of the Marine Mammal Protection Act (MMPA) as amended, notification is hereby given that an Incidental Harassment Authorization (IHA) to take small numbers of marine mammals by harassment incidental to harbor activities related to the movement of the steel drilling caisson (SDC) through the Beaufort Sea has been issued to EnCana Oil and Gas, Inc. (EnCana).

DATES: Effective from August 1, 2003 to July 31, 2004

ADDRESSES: A copy of the IHA and/or the application is available by writing to Ms. Kaja Brix, Acting Chief, Marine Mammal Conservation Division, Office of Protected Resources, NMFS, 1315 East-West Highway, Silver Spring, MD 20910-3225, or by telephoning one of the contacts listed here.

FOR FURTHER INFORMATION CONTACT: Kimberly Skrupky, (301) 713-2322, ext 163 or Brad Smith, (907) 271-3023.

SUPPLEMENTARY INFORMATION:

Background

Sections 101(a)(5)(A) and (D) of the MMPA (16 U.S.C. 1361 et seq.) direct the Secretary of Commerce to allow, upon request, the incidental, but not intentional taking of small numbers of marine mammals by U.S. citizens who engage in a specified activity (other than commercial fishing) within a specified geographical region if certain findings are made and either regulations are issued or, if the taking is limited to harassment, notice of a proposed authorization is provided to the public for review.

Permission for incidental takings may be granted if NMFS finds that the taking will have no more than a negligible impact on the species or stock(s) and will not have an unmitigable adverse impact on the availability of the species or stock(s) for subsistence uses and that the permissible methods of taking and requirements pertaining to the monitoring and reporting of such taking are set forth.

NMFS has defined “negligible impact” in 50 CFR 216.103 as:

an impact resulting from the specified activity that cannot be reasonably expected to, and is not reasonably likely to, adversely affect the species or stock through effects on annual rates of recruitment or survival.

Subsection 101(a)(5)(D) of the MMPA established an expedited process by which citizens of the United States can apply for an authorization to incidentally take small numbers of marine mammals by harassment. The MMPA defines “harassment” as:

any act of pursuit, torment, or annoyance which (i) has the potential to injure a marine mammal or marine mammal stock in the wild [“Level A harassment”]; or (ii) has the potential to disturb a marine mammal or marine mammal stock in the wild by causing disruption of behavioral patterns, including, but not limited to, migration, breathing, nursing, breeding, feeding, or sheltering [“Level B harassment”].

Subsection 101(a)(5)(D) establishes a 45-day time limit for NMFS review of an application followed by a 30-day public notice and comment period on any proposed authorizations for the incidental harassment of small numbers of marine mammals. Within 45 days of the close of the comment period, NMFS must either issue or deny issuance of the authorization.

Summary of Request

On May 14, 2003, NMFS received an application from EnCana requesting an authorization for the harassment of small numbers of five species of marine mammals incidental to movement of the SDC from Cross Island, McCovey Prospect, AK through the Beaufort Sea to Herschel Island, Yukon Territory and associated activities beginning on August 1, 2003. The SDC will lift-off from its current location and will be towed to the new set down location. Once the SDC reaches Herschel Island, it will go into cold stack mode. Helicopter supported one-day reconnaissance trips to the SDC may occur to check on winterization conditions on-board the SDC. A detailed description of these activities proposed for 2003-2004 is contained in the application (Lynx Enterprises, Inc., 2003), which is available upon request (see ADDRESSES).

Description of Marine Mammals Affected by the Activity

The Beaufort Sea supports many marine mammals under NMFS jurisdiction, including bowhead whales (Balaena mysticetus), beluga whales (Delphinapterus leucas), ringed seals (Phoca hispida), bearded seals (Erignathus barbatus) and spotted seals (Phoca largha). Descriptions of the biology, distribution, and current status of these species can be found in NMFS Stock Assessment Reports (2000, 1999, and 1997). Please refer to those documents for more information on these species. These documents can be downloaded electronically from: http://www.nmfs.noaa.gov/pr/PR2/Stock_Assessment_Program/individual_sars.html.

Comments and Responses

On June 8, 2003 (68 FR 36572), NMFS published a notice of receipt and a 30-day public comment period was provided on the application and proposed authorization. That notice described the activity and anticipated effects on marine mammals. The only comments received were from the Marine Mammal Commission (Commission).

Comment 1: The Commission believes that the NMFS's preliminary determinations are reasonable, provided that the proposed mitigation and monitoring activities are adequate to detect marine mammals in the vicinity of the proposed operations and to ensure that marine mammals are not being taken in unanticipated ways or numbers. Clarification should be provided concerning the circumstances under which such monitoring would not occur, and a determination made as to whether non-negligible impacts or taking other than by harassment may occur during such periods.

Response: The monitoring on the SDC will continue 24 hours per day except when the SDC is in cold-stack between approximately August 31, 2003 and mid-October. Monitoring will begin just prior to coming out of cold stack in preparation for movement that is expected to commence on or about August 1st.

Comment 2: NMFS may wish to suggest to the applicant that it conduct an acoustic monitoring program, in addition to the proposed visual monitoring. Acoustic monitoring would provide more data on the actual acoustic source levels associated with the proposed activity.

Response: In 1991, ARCO Alaska, Incorporated conducted a marine mammal monitoring program at Cabot prospect in the Beaufort Sea. The marine mammal monitoring program included the physical acoustic characterization of the drilling platform and the surrounding area, passive acoustic monitoring of underwater sounds produced by marine mammals, and surface monitoring for operational and environmental conditions and marine mammal sightings. Results of this monitoring program can be found in the Final Report for the Site Specific Monitoring Plan for Cabot Prospect by Coastal & Offshore Pacific Corporation. A copy of this Final Report can be obtained by contacting NMFS (see ADDRESSES). As a result of this earlier acoustical monitoring, an acoustic monitoring program is not warranted.

Comment 3: By monitoring calling rates for the relevant species before, during, and after the activity, another dataset could be obtained on the behavioral impacts of the activities.

Response: The monitoring plans for EnCana to monitor marine mammal impacts were the subject of scientific peer-review meetings held on 8-9 November 2000, in Seattle, WA; October 30-31, 2002, in Anchorage, AK; and June 24-25, 2003 in Seattle, WA. Those meetings provided the required dialogue necessary for ensuring that monitoring programs in Arctic waters provided the necessary information to ensure that impacts are (or are not) negligible. NMFS continues to encourage the Commission's participation in these meetings.

Comment 4: NMFS should also ensure that the application has completed negotiations with the Alaska Eskimo Whaling Commission (AEWC) and affected villages Whaling Captains Associations to amend the existing Conflict Avoidance Agreement (CAA) and Plan of Cooperation, prior to granting the authorization.

Response: EnCana amended the existing CAA and Plan of Cooperation with the AEWC on June 9, 2003, as required under this IHA.

Mitigation

During mobilization of the SDC from Cross Island at the McCovey Prospect through the Beaufort Sea to Herschel Island, EnCana will have on-board marine mammal monitors throughout the transit. The program will commence with the reoccupation of SDC at the current McCovey deployment and will continue on a nearly 24-hour basis until the rig exits U.S. waters and goes into cold stack mode in Canada.

EnCana proposes to mitigate the potential negative impacts from its relocation and supply removal activities by planning the timing of operations in such a way as to reduce the production of noise during the fall bowhead whale migration. This includes putting the SDC into cold stack mode during the entire bowhead migration period (approximately late-August through mid-October). In addition to these mitigation measures, EnCana worked with the AEWC, North Slope Borough, and other whaling communities and amended the existing CAA to include the 2003 relocation to eliminate impacts to subsistence hunting of bowheads and thereby on bowheads themselves.

Monitoring

As part of its application, EnCana will have a visual monitoring program for assessing impacts to marine mammals during the SDC's transit from Cross Island, McCovey Prospect to Herschel Island.

EnCana will initiate a comprehensive training program for all potential marine mammal observers that includes learning the identification and behavior of all local species known to use the areas where EnCana will be operating. This training will be conducted by professional marine biologists and experienced Native observers participating in the monitoring program. The observer protocol is to scan the area around vessels and the SDC with binoculars of sufficient power. Range finding equipment will be supplied to observers in order to better estimate distances. Observers would collect data on the presence, distribution, and behavior of marine mammals relative to EnCana activities as well as climatic conditions at the time of marine mammal sightings. Observations would be made on a nearly 24-hour basis from the time the SDC leaves Cross Island until the SDC crosses the Canadian border or, if the backup deployment in U.S. waters is used, is placed in cold stack mode. If the backup deployment in U.S. waters is used and re-supply efforts are necessary between the end of the fall bowhead whale harvest and ice-over, observers would be re-deployed on the SDC and supply vessels. All personnel stationed aboard the SDC during the open water season of 2003 would also receive training on marine mammal monitoring and utilize marine mammal reporting forms to document any incidental takes of marine mammals.

Reporting

All monitoring data collected will be reported to NMFS and the U.S. Fish and Wildlife Service on a weekly basis. EnCana must provide a final report on 2003-2004 activities to NMFS within 90 days of the completion of the activity. This report will provide dates and locations of the SDC movements and other operational activities, weather conditions, dates and locations of any activities related to monitoring the effects on marine mammals, and the methods, results, and interpretation of all monitoring activities, including estimates of the level and type of take, species name and numbers of each species observed, direction of movement of species, and any observed changes or modifications in behavior.

Endangered Species Act (ESA) Consultation

A biological opinion on oil and gas exploration was issued on May 25, 2001. NMFS has issued an Incidental Take Statement, pursuant to section 7 of the ESA.

National Environmental Policy Act (NEPA)

In 1997, NMFS prepared and released an EA that addressed the impacts on the human environment from issuance of an authorization for taking marine mammals incidental to moving an oil drilling structure through the Beaufort Sea during the summer and conducting oil exploration activities in the eastern Beaufort Sea and the alternatives to that proposed action. A Finding of No Significant Impact was signed on September 25, 1997. Because the action discussed in this document is not substantially different from the 1997 action, and because no significant new scientific information or analyses have been developed in the past several years significant enough to warrant new NEPA documentation, this action is categorically excluded from further review under NOAA Administrative Order 216-6. A copy of that EA is available upon request (see ADDRESSES).

Determinations

NMFS has determined that the short-term impact of SDC mobilization from Cross Island, McCovey Prospect, AK through the Beaufort Sea to Herschel Island, Yukon Territory, and associated activities will result, at worst, in a temporary modification in behavior by certain species of whales and pinnipeds. While behavioral modifications may be made by these species to avoid the resultant noise or visual cues, this behavioral change is expected to have a negligible impact on the survival and recruitment of stocks.

While the number of potential incidental harassment takes will depend on the year-to-year distribution and abundance of marine mammals in the area of operations, due to the distribution and abundance of marine mammals during the projected period of activity and the location of the proposed activity, the number of potential harassment takings is estimated to be small. In addition, no take by injury and/or death is anticipated, and there is no potential for temporary or permanent hearing impairment as a result of the activities. No rookeries, mating grounds, areas of concentrated feeding, or other areas of special significance for marine mammals occur within or near the relocation route.

The measures undertaken to ensure that the SDC relocation will not have an adverse impact on subsistence activities are the CAA, Plan of Cooperation, and an operation schedule prior to the annual bowhead whale subsistence hunt, as amended on June 9, 2003.

Authorization

Authority: NMFS has issued an IHA to EnCana for the harassment of marine mammals incidental to movement of a SDC from Cross Island, McCovey Prospect, AK through the Beaufort Sea to Herschel Island, Yukon Territory, and associated activities. The issuance of this IHA is contingent upon incorporation of the previously mentioned mitigation, monitoring, and reporting requirements.

Dated: August 5, 2003.
Donna Wieting,
Acting Office Director, Office of Protected Resources, National Marine Fisheries Service.

[FR Doc. 03-20388 Filed 8-8-03; 8:45 am]

BILLING CODE 3510-22-S